DEPARTMENT OF THE INTERIOR

Minerals Management Service

Agency Information Collection Activities: Submitted for Office of Management and Budget (OMB) Review; Comment Request

AGENCY: Minerals Management Service (MMS), Interior.

ACTION: Notice of extension of an information collection (1010-0086).

SUMMARY: To comply with the Paperwork Reduction Act of 1995 (PRA), we are notifying the public that we have submitted to OMB an information collection request (ICR) to renew approval of the paperwork requirements in the regulations under 30 CFR 250, subpart P, “Sulphur Operations,” and related documents. This notice also provides the public a second opportunity to comment on the paperwork burden of these regulatory requirements.

DATES: Submit written comments by September 29, 2004.

ADDRESSES: You may submit comments either by fax (202) 395-6566 or e-mail (OIRA_DOCKET@omb.eop.gov) directly to the Office of Information and Regulatory Affairs, OMB, Attention: Desk Officer for the Department of the Interior (1010-0086). Mail or hand carry a copy of your comments to the Department of the Interior; Minerals Management Service; Attention: Rules Processing Team; Mail Stop 4024; 381 Elden Street; Herndon, Virginia 20170-4817. If you wish to e-mail your comments to MMS, the address is: rules.comments@mms.gov. Reference Information Collection 1010-0086 in your subject line and mark your message for return receipt. Include your name and return address in your message text.

FOR FURTHER INFORMATION CONTACT: Cheryl Blundon, Rules Processing Team, (703) 787-1600. You may also contact Cheryl Blundon to obtain a copy, at no cost, of the regulations that require the subject collection of information.

SUPPLEMENTARY INFORMATION: Title: 30 CFR 250, Subpart P, Sulphur Operations.

OMB Control Number: 1010-0086.

Abstract: The Outer Continental Shelf (OCS) Lands Act, as amended (43 U.S.C. 1331 et seq. and 43 U.S.C. 1801 et seq.), authorizes the Secretary of the Interior (Secretary) to preserve, protect, and develop sulphur resources on the OCS; make such resources available to meet the Nation's energy needs as rapidly as possible; balance orderly energy resources development with protection of the human, marine, and coastal environments; ensure the public a fair and equitable return on the resources offshore; and preserve and maintain free enterprise competition. Section 5(a) of the OCS Lands Act requires the Secretary to prescribe rules and regulations “to provide for the prevention of waste, and conservation of the natural resources of the Outer Continental Shelf, and the protection of correlative rights therein” and to include provisions “for the prompt and efficient exploration and development of a lease area.” These authorities and responsibilities are among those delegated to MMS under which we issue regulations to ensure that operations in the OCS will meet statutory requirements; provide for safety and protection of the environment; and result in diligent exploration, development, and production of OCS leases. This information collection request addresses the regulations at 30 CFR 250, subpart P, Sulphur Operations, and the associated supplementary notices to lessees and operators intended to provide clarification, description, or explanation of these regulations.

The MMS uses the information collected to ascertain the condition of drilling sites for the purpose of preventing hazards inherent in drilling and production operations and to evaluate the adequacy of equipment and/or procedures to be used during the conduct of drilling, well-completion, well-workover, and production operations. For example, MMS uses the information to:

• Ascertain that a discovered sulphur deposit can be classified as capable of production in paying quantities.

• Ensure accurate and complete measurement of production to determine the amount of sulphur royalty payments due the United States; and that the sale locations are secure, production has been measured accurately, and appropriate follow-up actions are initiated.

• Ensure that the drilling unit is fit for the intended purpose.

• Review expected oceanographic and meteorological conditions to ensure the integrity of the drilling unit (this information is submitted only if it is not otherwise available).

• Review hazard survey data to ensure that the lessee will not encounter geological conditions that present a hazard to operations.

• Ensure the adequacy and safety of firefighting plans.

• Ensure the adequacy of casing for anticipated conditions.

• Review log entries of crew meetings to verify that crew members are properly trained.

• Review drilling, well-completion, and well-workover diagrams and procedures to ensure the safety of the proposed drilling, well-completion, and well-workover operations.

• Review production operation procedures to ensure the safety of the proposed production operations.

• Monitor environmental data during operations in offshore areas where such data are not already available to provide a valuable source of information to evaluate the performance of drilling rigs under various weather and ocean conditions. This information is necessary to make reasonable determinations regarding safety of operations and environmental protection.

Responses are mandatory. No questions of a “sensitive” nature are asked. MMS will protect proprietary information according to 30 CFR 250.196 (Data and information to be made available to the public) and 30 CFR Part 252 (OCS Oil and Gas Information Program).

Frequency: The frequency varies by section, but is generally “on occasion”.

Estimated Number and Description of Respondents: Approximately 1 Federal OCS sulphur lessee.

Estimated Annual Reporting and Recordkeeping “Hour” Burden: The following chart details the components of the hour burden for the information collection requirements in Subpart P—an estimated total of 903 burden hours. In estimating the burdens, we assumed that respondents perform certain requirements in the normal course of their activities. We consider these to be usual and customary and took that into account in estimating the burden.

Citation 30 CFR 250 subpart P | Reporting or recordkeeping requirement | Hour burden | Average No. annual responses | Annual burden hours
1600 | Submit exploration or development and production plan | Burden included under 30 CFR 250, Subpart B (1010-0049). |  | 0
1603(a) | Request determination whether sulphur deposit can produce in paying quantities | 1 | 1 request | 1
1605(b)(3) | Submit data and information on fitness of drilling unit | 4 | 1 submission | 4
1605(c) | Report oceanographic, meteorological, and drilling unit performance data upon request* | 1 | 1 report | 1
1605(d) | Submit results of additional surveys and soil borings upon request* | 1 | 1 submission | 1
1605(e)(5) | Request copy of directional survey (by holder of adjoining lease)* | 1 | 1 request | 1
1605(f) | Submit application for installation of fixed drilling platforms or structures | Burden included under 30 CFR 250, Subpart I (1010-0058) |  | 0
1607 | Request establishment, amendment, or cancellation of field rules for drilling, well-completion, or well-workover | 8 | 2 requests | 16
1608 | Submit well casing and cementing plan or modification | 5 | 1 plan | 5
1610(d)(8) | Request exception to ram-type blowout preventer (BOP) system components rated working pressure | 1 | 1 request | 1
1611(b); 1625(b) | Request exception to water-rated working pressure to test ram-type and annular BOPs and choke manifold | 1 | 1 request | 1
1611(f); 1625(f) | Request exception to recording pressure conditions during BOP tests on pressure charts* | 1 | 1 request | 1
1612 | Request exception to § 250.408 requirements for well-control drills* | 1 | 1 request | 1
1615 | Request exception to blind-shear ram or pipe rams and inside BOP to secure wells | 1 | 1 request | 1
1617; 1618; 1619(b); 1622 | Submit forms MMS-123 (Application for Permit to Drill), MMS-124 (Sundry Notices and Reports on Wells), Form MMS-125 (Well Summary Report) | Burden included with forms: MMS-123 (1010-0044); MMS-124 (1010-0045); MMS-125 (1010-0046) |  | 0
1619(c), (d), (e) | Submit copies of records, logs, reports, charts, etc., upon request | 1 | 8 submissions | 8
1628(b), (d) | Submit application for design and installation features of sulphur production facilities and fuel gas safety system; certify new installation conforms to approved design | 4 | 1 application | 4
1629(b)(3) | Request approval of firefighting systems | 4 | 1 request | 4
1630(a)(5) | Notify MMS of pre-production test and inspection of safety system and commencement of production | ½ | 2 notifications | 1
1633(b) | Submit application for method of production measurement | 2 | 1 application | 2
1634(b) | Report evidence of mishandling of produced sulphur or tampering or falsifying any measurement of production | 1 | 1 report | 1
1600 thru 1634 | General departure and alternative compliance requests not specifically covered elsewhere in Subpart P | 2 | 1 request | 2
| Subtotal—Reporting |  | 28 | 56
1604(f) | Check traveling-block safety device for proper operation weekly and after each drill-line slipping; enter results in log | ¼ | 1 lessee × 52 × 2 rigs = 104 | 26
1609(a) | Pressure test casing; record time, conditions of testing, and test results in log | 2 | 1 lessee × 60 tests/records = 60 | 120
1611(d)(3); 1625(c)(3) | Record in driller's report the date, time, and reason for postponing pressure testings | 10 minutes | 1 lessee × 6 recordings = 6 | 1
1611(f), (g); 1625(f), (g) | Conduct tests, actuations, inspections, maintenance, and crew drills of BOP systems at least weekly; record results in driller's report; retain records for 2 years following completion of drilling activity | 6 | 1 lessee × 52 weeks = 52 | 312
1613(e) | Pressure test diverter sealing element/valves weekly; actuate diverter sealing element/valves/control system every 24 hours; test diverter line for flow every 24 hours; record test times and results in driller's report | 2 | 1 lessee on occasion (daily/weekly during drilling) 2 rigs × 52 weeks = 104 | 208
1616(c) | Retain training records for lessee and drilling contractor personnel | Burden included under 30 CFR 250, Subpart O (1010-0128) |  | 0
1619(a) | Retain records for each well and all well operations for 2 years | 12 | 1 lessee | 12
1621 | Conduct safety meetings prior to well-completion or well-workover operations; record date and time | 1 | 1 lessee × 50 meetings/records = 50 | 50
1628(d) | Maintain information on approved design and installation features for the life of the facility | 1 | 1 lessee | 1
1629(b)(1)(ii) and (iii) | Retain pressure-recording charts used to determine operating pressure ranges for 2 years; post firefighting system diagram | 12 | 1 lessee | 12
1630(b) | Maintain records for each safety device installed for 2 years | 1 | 1 lessee | 1
1631 | Conduct safety device training prior to production operations and periodically thereafter; record date and time | 1 | 1 lessee × 52 training/records × 2 rigs = 104 | 104
| Subtotal—Recordkeeping |  | 1 Recordkeeper | 847
| Total Burden |  | 29 | 903
* We included a minimal burden, but it has not been necessary to request these data and/or no submissions received for many years.

Estimated Annual Reporting and Recordkeeping “Non-Hour Cost” Burden: We have identified no “non-hour cost” burdens.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on February 13, 2004, we published a Federal Register notice (69 FR 7250) announcing that we would submit this ICR to OMB for approval. The notice provided the required 60-day comment period. In addition, 250.199 displays the OMB control numbers for the information collection requirements imposed by the 30 CFR part 250 regulations and forms. The regulation also informs the public that they may comment at any time on the collections of information and provides the address to which they should send comments. We have received no comments in response to these efforts.

If you wish to comment in response to this notice, send your comments directly to the offices listed under the ADDRESSES section of this notice. The OMB has up to 60 days to approve or disapprove the information collection but may respond after 30 days. Therefore, to ensure maximum consideration, OMB should receive public comments by September 29, 2004.

Public Comment Policy: MMS's practice is to make comments, including names and addresses of respondents, available for public review during regular business hours. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Officer: Arlene Bajusz (202) 208-7744.

Dated: May 25, 2004.
E.P. Danenberger,
Chief, Engineering and Operations Division.

[FR Doc. 04-19650 Filed 8-27-04; 8:45 am]

BILLING CODE 4310-MR-P